DEPARTMENT OF DEFENSE

Department of the Navy

Notice of Intent To Grant a Partially Exclusive Patent License; Oasis Diagnostics Corp

AGENCY: Department of the Navy, DoD.

ACTION: Notice.

SUMMARY: The Department of the Navy hereby gives notice of its intent to grant to Oasis Diagnostics Corp., a revocable, nonassignable, partially exclusive license to practice worldwide the Government owned inventions described in U.S. Patent No. 6,841,159 issued on January 11, 2005, for “Rapid Lateral Flow Assay for Determining Exposure to Mycobacterium Tuberculosis and other mycobacteria”; and related foreign filings (PCT/US 03/02311, EP/1478395, and AU/2003210662 filed) in the fields of detection of antibodies in present in oral fluids from the group saliva, oral rinse expectorant, oral mucosal transudate, gingival crevicular fluid, and phlegmuntil.

DATES: Anyone wishing to object to the grant of this license must file written objections along with supporting evidence, if any, not later than November 13, 2007.

ADDRESSES: Written objections are to be filed with the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave., Silver Spring, MD 20910-7500, telephone: 301-319-7428.

(Authority: 35 U.S.C. 207, 37 CFR Part 404)

Dated: October 23, 2007.
T.M. Cruz,
Lieutenant, Judge Advocate General's Corps, U.S. Navy, Federal Register Liaison Officer.

[FR Doc. E7-21202 Filed 10-26-07; 8:45 am]

BILLING CODE 3810-FF-P